DEPARTMENT OF THE INTERIOR

National Park Service

[NPS-WASO-NAGPRA-NPS0040025; PPWOCRADN0-PCU00RP14.R50000]

Notice of Intended Repatriation: Los Angeles County Museum of Natural History, Los Angeles, CA

AGENCY: National Park Service, Interior.

ACTION: Notice.

SUMMARY: In accordance with the Native American Graves Protection and Repatriation Act (NAGPRA), the Los Angeles County Museum of Natural History (LACMNH) intends to repatriate certain cultural items that meet the definition of unassociated funerary objects and that have a cultural affiliation with the Indian Tribes or Native Hawaiian organizations in this notice.

DATES: Repatriation of the cultural items in this notice may occur on or after May 30, 2025.

ADDRESSES: Amy E. Gusick, Los Angeles County Museum of Natural History, 900 Exposition Boulevard, Los Angeles, CA 90007, telephone (213) 763-3370, email agusick@nhm.org.

SUPPLEMENTARY INFORMATION: This notice is published as part of the National Park Service's administrative responsibilities under NAGPRA. The determinations in this notice are the sole responsibility of the LACMNH, and additional information on the determinations in this notice, including the results of consultation, can be found in the summary or related records. The National Park Service is not responsible for the determinations in this notice.

Abstract of Information Available

A total of four lots of cultural items have been requested for repatriation. The four lots of unassociated funerary objects are lithics, faunal bones, shells, and flora. The unassociated funerary objects were removed from the Vasquez Rocks (CA-LAN-361) site in northern Los Angeles County, CA. Owners of the land on which the site now rests, Dr. Ascher and family, spent many years digging at the site in the mid-1900s. In 1966, the location was bulldozed by vandals. Between 1967-1970, LACNHM curator Dr. Charles Rozaire, as part of the California State University, Northridge Archaeological School, held field schools at the site, where students and supervisors excavated the bulldozed site and recovered artifacts and bone originally identified as faunal (non-human) bone. As a result of the looting and bulldozing, the artifacts and bones recovered from the site were not in original context and were highly fragmented.

In consultation with representatives of the Yuhaaviatam of San Manuel Nation (also known as the San Manuel Band of Mission Indians) and non-federally recognized California Tribes including the Fernandeño Tataviam Band of Mission Indians, in 2021, LACMNH conducted a detailed bioarcheological assessment of the bone recovered from CA-LAN-361 resulting in the identification and separation of human remains from these cultural items.

Based on archaeological context and information learned from consultations, these unassociated funerary objects are Native American. Based on artifact assemblage typologies, obsidian hydration readings and one radiocarbon date, archaeological evidence demonstrates that Vasquez Rocks (LAN-361) was used as a cemetery between 2315 BCE-79 BCE (Caruso 1988, Garza 2012, King et al. 1974), the Middle Holocene Period. Archaeologists have asserted that Serrano and Tataviam peoples have continuously occupied the San Gabriel Mountains and the surrounding areas for up to 5,000-6,000 years BP. Linguistic sources demonstrate a strong continuous shared group identity between those people using Vasquez Rocks roughly 3000 years ago and modern Native Americans of Serrano and Tataviam descent. Ethnographic evidence and Traditional Knowledge document the Agua Dulce and Sierra Pelona regions as home to Serrano and Tataviam peoples since time immemorial.

Determinations

The LACMNH has determined that:

• The four lots of unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Morongo Band of Mission Indians, California and the Yuhaaviatam of San Manuel Nation (previously listed as San Manuel Band of Mission Indians, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 30, 2025. If competing requests for repatriation are received, the LACMNH must determine the most appropriate requestor prior to repatriation. Requests for joint repatriation of the cultural items are considered a single request and not competing requests. The LACMNH is responsible for sending a copy of this notice to the Indian Tribes and Native Hawaiian organizations identified in this notice and to any other consulting parties.

Authority: Native American Graves Protection and Repatriation Act, 25 U.S.C. 3004 and the implementing regulations, 43 CFR 10.9.

Dated: April 15, 2025
Melanie O'Brien,
Manager, National NAGPRA Program.

[FR Doc. 2025-07434 Filed 4-29-25; 8:45 am]

BILLING CODE 4312-52-P